NUCLEAR REGULATORY COMMISSION

Advisory Committee on the Medical Uses of Isotopes: Meeting Notice

AGENCY: U.S. Nuclear Regulatory Commission (NRC).

ACTION: Notice of meeting.

SUMMARY: The U.S. Nuclear Regulatory Commission will convene a meeting of the Advisory Committee on the Medical Uses of Isotopes (ACMUI) on October 25 and 26, 2005. A sample of agenda items to be discussed during the public sessions includes: (1) Discussion of the Energy policy Act of 2005, which provides for NRC regulation of accelerator-produced radioactive material and discrete sources of Ra-226; (2) Status of Specialty Board applications for NRC recognition; (3) Electronic signature in written directives; (4) Revision of NRC Form 313A; (5) RIS on dose control and assessment; (6) Review of the medical events definition commission paper. To review the agenda, see http://www.nrc.gov/reading-rm/doc-collections/acmui/agenda/ or contact, via e-mail MSS@nrc.gov.

Purpose: Discuss issues related to 10 CFR part 35, Medical Use of Byproduct Material.

Date and Time for Closed Session Meeting: October 25, 2005, from 8 a.m. to 10 a.m. This session will be closed so that NRC staff can brief the ACMUI on discussing information relating solely to internal personnel rules.

Dates and Times for Public Meetings: October 25, 2005, from 10 a.m. to 5 p.m.; and October 26, 2005, from 8 a.m. to 5 p.m.

Address for Public Meetings: U.S. Nuclear Regulatory Commission, Two White Flint North Building, Room T2B3, 11545 Rockville Pike, Rockville, MD 20852-2738.

FOR FURTHER INFORMATION CONTACT: Mohammad S. Saba, telephone (301) 415-7608; e-mail MSS@nrc.gov of the Office of Nuclear Material Safety and Safeguards, U.S. Nuclear Regulatory Commission, Washington, DC 20555-0001.

Conduct of the Meeting

Leon S. Malmud, M.D., will chair the meeting. Dr. Malmud will conduct the meeting in a manner that will facilitate the orderly conduct of business. The following procedures apply to public participation in the meeting:

1. Persons who wish to provide a written statement should submit a reproducible copy to Mohammad S. Saba, U.S. Nuclear Regulatory Commission, Mail Stop T8F03, Washington, DC 20555. Submittals must be postmarked by October 3, 2005 and must pertain to the topics on the agenda for the meeting.

2. Questions from members of the public will be permitted during the meeting, at the discretion of the Chairman.

3. The transcript and written comments will be available for inspection on NRC's Web site (http://www.nrc.gov) and at the NRC Public Document Room, 11555 Rockville Pike, Rockville, MD 20852-2738, telephone (800) 397-4209, on or about January 26, 2006. This meeting will be held in accordance with the Atomic Energy Act of 1954, as amended (primarily Section 161a); the Federal Advisory Committee Act (5 U.S.C. App); and the Commission's regulations in Title 10, U.S. Code of Federal Regulations, Part 7.

4. Attendees are requested to notify Mohammad S. Saba at (301) 415-7608 of their planned attendance if special services, such as for the hearing impaired, are necessary.

Dated at Rockville, Maryland, this 14th day of September, 2005.
For the Nuclear Regulatory Commission.
Andrew L. Bates,
Advisory Committee Management Officer.

[FR Doc. 05-18652 Filed 9-19-05; 8:45 am]

BILLING CODE 7590-01-P